DEPARTMENT OF ENERGY

Agency Information Collection Extension

AGENCY: Office of Science, Department of Energy.

ACTION: Notice and request for comments.

SUMMARY: The Department of Energy (DOE), pursuant to the Paperwork Reduction Act of 1995), intends to extend for three years, an information collection request with the Office of Management and Budget (OMB).

DATES: Comments regarding this proposed information collection must be received on or before August 8, 2022. If you anticipate any difficulty in submitting comments within that period, contact listed in the FOR FURTHER INFORMATION CONTACT as soon as possible.

ADDRESSES: Written comments may be sent to: Courtney Bracey, Office of Information Management (SC-43), Office of Science, Department of Energy, GTN Building/E-180, 1000 Independence Avenue SW, Washington, DC 20585, Direct: (301) 903-1844. Or by email at Courtney.Bracey@science.doe.gov. (301) 903-1844.

FOR FURTHER INFORMATION CONTACT: Courtney Bracey, Courtney.Bracey@science.doe.gov, (301) 903-1844.

SUPPLEMENTARY INFORMATION: Comments are invited on: (a) whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5178;

(2) Information Collection Request Title: Portfolio Analysis and Management System (PAMS);

(3) Type of Review: Extension;

(4) Purpose: This existing collection is based on the Health Resources and Services Administration (HRSA) Electronic Handbooks software. Discretionary financial assistance proposals continue to be collected using Grants.gov but are imported into PAMS for use by the program offices. Under the existing information collection, an external interface in PAMS allows two other types of proposal submission: DOE National Laboratories are able to submit proposals for technical work authorizations directly into PAMS, while other Federal agencies will be able to submit proposals for interagency awards directly into PAMS. External users from all institution types are able to submit Solicitation Letters of Intent and Pre-proposals directly into PAMS. All applicants, whether they submitted through Grants.gov or PAMS, are able to register with PAMS to view the proposals that were submitted. They also are able to maintain a minimal amount of information in their personal profile. The existing collection automates and streamlines the submission, tracking, and correspondence portions of financial award pre-review processes.

The information collected is used by DOE to select applicants and projects for financial awards;

(5) Annual Estimated Number of Respondents: The following numbers are calculated using the average of data received in fiscal year 2018 through fiscal year 2021. 7,278 PAMS new registrants, who are to include 11,829 submitters of lab proposals, interagency proposals, pre-proposals, and Letters of Intent (LOI) (assuming one person per estimated submission) and 20,395 reviewers of proposals submitted through Grants.gov;

(6) Annual Estimated Number of Total Responses: Annual Estimated Number of Total Responses: The Office of Science receives about 581 DOE National Laboratory and interagency proposals per year, based on an average number of submissions received for (fiscal year 2018 through fiscal year 2021) and about 7,087 pre-proposals and letters of intent per year, based on an average of the data collected between fiscal year 2018 and fiscal year 2021);

(7) Annual Estimated Number of Burden Hours: 68,330;

(8) Annual Estimated Reporting and Recordkeeping Cost Burden: $0.

Statutory Authority: Section 641 of the Department of Energy Organization Act, codified at 42 U.S.C. 7251.

Signing Authority

This document of the Department of Energy was signed on June 2, 2022, by Asmeret Asefaw Berhe, Director, Office of Science, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 2, 2022.
Treena V. Garrett,
Federal Register Liaison Officer, U.S. Department of Energy.

[FR Doc. 2022-12237 Filed 6-6-22; 8:45 am]

BILLING CODE 6450-01-P